DEPARTMENT OF HOMELAND SECURITY

Directorate of Science and Technology; Notice of Meeting of Homeland Security Science and Technology Advisory Committee

AGENCY: Office of the Under Secretary for Science and Technology, Department of Homeland Security.

ACTION: Notice.

SUMMARY: The Homeland Security Science and Technology Advisory Committee (HSSTAC) will meet in a partially closed session in Potomac, MD on February 26 & 27, 2004.

DATES: The HSSTAC will meet in open session on February 26, 2004, from 11 a.m. to 2 p.m. HSSTAC will meet in closed session on February 26, 2004, from 2:30 p.m. to 5:30 p.m. and on February 27, 2004, from 8:25 a.m. to 3 p.m.

FOR FURTHER INFORMATION CONTACT: Craig Wilson, Homeland Security Science and Technology Advisory Committee, Department of Homeland Security, Science and Technology Directorate, Washington, DC 20528; telephone (202) 205-5041; e-mail HSSTAC@dhs.gov.

SUPPLEMENTARY INFORMATION: Notice of this meeting is given under the Federal Advisory Committee Act, 5 U.S.C. App.2. The HSSTAC will meet for purposes of: (1) Welcoming and introducing members of the committee; (2) receiving briefings on the mission and organization of the department; (3) receiving briefings on the mission and approaches of the Science and Technology Directorate; (4) holding roundtable discussions with the Committee members; (5) discussing the role of the Committee in advising the Department; (6) receiving briefings on detailed historical background, organization, programs, accomplishments, and plans of the Science and Technology Directorate; (7) receiving briefings on activities and accomplishments of the Office of Research & Development, the Homeland Security Advanced Projects Research Agency, the Office of Systems Engineering and Development, and the Office of Weapons of Mass Destruction Operations and Incident Management. This meeting will be partially closed; the open portions of the meeting for purposes of (1) through (5) above will be held in the Gymnasium Room of the William F. Bolger Center from 11 a.m. to 2 p.m. on February 26, 2004. The closed portions of the meeting, for purposes of (6) and (7) above will be held at the William F. Bolger Center from 2:30 p.m. to 5:30 p.m. on February 26, 2004, and from 8:25 a.m. to 3 p.m. on February 27, 2004. The William F. Bolger Center is located at 9600 Newbridge Drive, Potomac, MD 20854.

Public Attendance: Members of the public will be registered to attend the public session on a first-come, first-served basis per the procedures that follow. Security requires that any member of the public who wishes to attend the public session provide his or her name, social security number, and date of birth no later than 5 p.m. EST, Tuesday, February 18, 2004. Please provide the required information to Craig Wilson via email at HSSTAC@dhs.gov, or via phone at (202) 205-5041. Persons with disabilities who require special assistance should indicate so in their admittance request. Photo identification will be required for entry into the public session, and everyone in attendance must be present and seated by 10:45 a.m. on February 26, 2004.

Basis for Closure: In accordance with section 10(d) of the Federal Advisory Committee Act, Public Law 92-463, as amended (5 U.S.C. App. 2), the Under Secretary for Science and Technology has issued a determination that portions of this HSSTAC meeting will concern matters sensitive to homeland security within the meaning of 5 U.S.C. 552b(c) (7) and (c)(9)(B) and that, accordingly, these portions of the meeting will be closed to the public.

Public Comments: Members of the public who wish to file a written statement with the HSSTAC may do so by mail to Craig Wilson at the following address: Homeland Security Science and Technology Advisory Committee, Department of Homeland Security, Science and Technology Directorate, Washington, DC 20528. Comments may also be sent via email to HSSTAC@dhs.gov or via fax at (202) 772-9916.

Dated: February 6, 2004.
Charles E. McQueary,
Under Secretary for Science and Technology, Department of Homeland Security.

[FR Doc. 04-3284 Filed 2-10-04; 4:06 pm]

BILLING CODE 4410-10-P